Committee for Purchase From People Who Are Blind or Severely Disabled

Notice of Renewal of AbilityOne Nonprofit Agency Recordkeeping Requirements

AGENCY: Committee for Purchase From People Who Are Blind or Severely Disabled.

ACTION: Notice of Recordkeeping Requirements Renewal.

SUMMARY: The Committee for Purchase From People Who Are Blind or Severely Disabled (The Committee) has submitted the collection of information listed below to OMB for approval under the provisions of the Paperwork Reduction Act. This notice solicits comments on that collection of information.

DATES: Submit your written comments on the information collection on or before July 11, 2011.

ADDRESSES: Mail your comments on the requirement to Louis Bartalot, Director of Compliance, Committee for Purchase From People Who Are Blind or Severely Disabled, 1421 Jefferson Davis Highway, Jefferson Plaza 2, Suite 10800, Arlington, VA 22202-3259; fax (703) 603-0655; or e-mail rulescomment@abilityone.gov.

FOR FURTHER INFORMATION CONTACT: Louis Bartalot, Director of Compliance, Committee for Purchase From People Who Are Blind or Severely Disabled, 1421 Jefferson Davis Highway, Jefferson Plaza 2, Suite 10800, Arlington, VA 22202-3259; phone (703) 603-2124; fax (703) 603-0655; or e-mail rulescomment@abilityone.gov.

SUPPLEMENTARY INFORMATION: The Office of Management and Budget (OMB) Regulations at 5 CFR part 1320, which implement provisions of the Paperwork Reduction Act of 1995 (44 U.S.C. 3501 et seq.), require that interested members of the public and affected agencies have an opportunity to comment on information collection and recordkeeping activities (see 5 CFR 1320.8(d)). The Committee plans to submit a request to OMB to renew its approval of the collection of information for nonprofit agency responsibilities related to recordkeeping. The Committee is requesting a 3-year term of approval for this information collection activity.

Federal agencies may not conduct or sponsor, and a person is not required to respond to, a collection of information unless it displays a currently valid OMB control number. The OMB control number for this collection of information is 3037-0005.

The Javits-Wagner-O'Day (JWOD) Act of 1971 (41 U.S.C. 46-48c) is the authorizing legislation for the AbilityOne Program. The AbilityOne Program creates jobs and training opportunities for people who are blind or who have other severe disabilities. Its primary means of doing so is by requiring Government agencies to purchase selected products and services from nonprofit agencies employing such individuals. The AbilityOne Program is administered by the Committee. Two national, independent organizations, National Industries for the Blind (NIB) and NISH, help state and private nonprofit agencies participate in the AbilityOne Program.

The implementing regulations for the JWOD Act, which are located at 41 CFR Chapter 51, detail the recordkeeping requirements imposed on nonprofit agencies participating in the AbilityOne Program. Section 51-2.4 of the regulations describes the criteria that the Committee must consider when adding a product or service to its Procurement List. One of these criteria is that a proposed addition must demonstrate a potential to generate employment for people who are blind or severely disabled. The Committee decided that evidence that employment will be generated for those individuals consists of recordkeeping that tracks direct labor and revenues for products or services sold through an AbilityOne Program contract. This recordkeeping can be done on each individual AbilityOne project or by product or service family.

In addition, Section 51-4.3 of the regulations requires that nonprofit agencies keep records on direct labor hours performed by each worker and keep an individual record or file for each individual who is blind or severely disabled, documenting that individual's disability and capabilities for competitive employment. The records that nonprofit agencies must keep in accordance with Section 51-4.3 of the regulations constitute the bulk of the hour burden associated with this OMB control number.

This information collection renewal request seeks approval for the Committee to continue to ensure compliance with recordkeeping requirements established by the authority of the JWOD Act and set forth in the Act's implementing regulations and to ensure that the Committee has the ability to confirm the suitability of products and services on its Procurement List. The recordkeeping requirements described in this document are the same as those currently imposed on nonprofit agencies participating in the AbilityOne Program.

Title: Nonprofit Agency Responsibilities, 41 CFR 51-2.4 and 51-4.3.

OMB Control Number: 3037-0005.

Description of Collection: Recordkeeping.

Description of Respondents: Nonprofit agencies participating in the AbilityOne Program.

Annual Number of Respondents: About 625 nonprofit agencies will annually participate in recordkeeping.

Total Annual Burden Hours: The recordkeeping burden is estimated to average 567 hours per respondent. Total annual burden is 354,375 hours.

We invite comments concerning this renewal on: (1) Whether the collection of information is necessary for the proper performance of our agency's functions, including whether the information will have practical utility; (2) the accuracy of our estimate of the burden of the collection of information; (3) ways to enhance the quality, utility, and clarity of the information to be collected; and (4) ways to minimize the burden of the collection of information on respondents.

Dated: May 5, 2011.
Patricia Briscoe,
Deputy Director Business Operations, Pricing and Information Management.

[FR Doc. 2011-11980 Filed 5-16-11; 8:45 am]

BILLING CODE 6353-01-P